DEPARTMENT OF TRANSPORTATION

Surface Transportation Board

Information Collection Activities (Complaints, Petitions for Declaratory Orders, and Petitions for Relief Not Otherwise Specified)

AGENCY: Surface Transportation Board, DOT.

ACTION: Notice and request for comments.

SUMMARY: As required by the Paperwork Reduction Act of 1995, 44 U.S.C. 3501-3519 (PRA), the Surface Transportation Board (STB or Board) gives notice of its intent to seek from the Office of Management and Budget (OMB) approval of the information collections required for (1) complaints filed under 49 U.S.C. 721, 10701-10707, 11101 and 11701-11707 and 49 CFR 1111; (2) petitions for declaratory orders under 5 U.S.C. 554(e) and 721; and (3) “catch all” petitions (for relief not otherwise specified) under 49 U.S.C. 721 and 49 CFR part 1117. Under these statutory and regulatory sections, the Board provides procedures for persons to make a broad range of claims and to seek a broad range of remedies before the Board. The information collections relevant to these complaints and petitions are described separately below.

For each collection, comments are requested concerning: (1) The accuracy of the Board's burden estimates; (2) ways to enhance the quality, utility, and clarity of the information collected; (3) ways to minimize the burden of the collection of information on the respondents, including the use of automated collection techniques or other forms of information technology when appropriate; and (4) whether the collection of information is necessary for the proper performance of the functions of the Board, including whether the collection has practical utility. Submitted comments will be summarized and included in the Board's request for OMB approval.

DATES: Comments on these information collections should be submitted by June 21, 2013.

ADDRESSES: Direct all comments to Marilyn Levitt, Surface Transportation Board, 395 E Street SW., Washington, DC 20423-0001, or to levittm@stb.dot.gov. When submitting comments, please refer to the title of the collection(s) addressed.

FOR FURTHER INFORMATION CONTACT: Marilyn Levitt at (202) 245-0269 or at levittm@stb.dot.gov. [Assistance for the hearing impaired is available through the Federal Information Relay Service (FIRS) at 1-800-877-8339.] Relevant STB regulations may be viewed on the STB's Web site under E-Library > Reference: STB Rules, http://www.stb.dot.gov/stb/elibrary/ref_stbrules.html.

Subjects: In this notice, the Board is requesting comments on the following information collections:

Description of Collections

Collection Number 1

Title: Complaints under 49 CFR 1111.

OMB Control Number: 2140-00XX.

STB Form Number: None.

Type of Review: Existing collections in use without an OMB control number.

Respondents: Affected shippers, railroads and communities that seek redress for alleged violations related to unreasonable rates, unreasonable practices, service issues, and other statutory claims.

Number of Respondents: 4.

Frequency: On occasion. In Fiscal Year (FY) 2012, there were 5 complaints of this type filed with the Board by respondents.

Total Burden Hours (annually including all respondents): 2,335 hours (estimated hours per complaint (467) × number of FY 2012 complaints (5)).

Total “Non-hour Burden” Cost (such as printing, mailing, and messenger costs): $7,310 (estimated “non-hour burden” cost per complaint ($1,462) × number of FY 2012 responses (5)).

Needs and Uses: Under the Board's regulations, persons may file complaints before the Board pursuant to 49 CFR part 1111 seeking redress for alleged violations of provisions of the Interstate Commerce Act, Public Law 104-88, 109 Stat. 803 (1995). The required content of a complaint is outlined at 49 CFR 1111.1(a). In the last few years, the most significant complaints filed at the Board allege that railroads are charging unreasonable rates or that they are engaging in unreasonable practices. See, e.g, 49 U.S.C 10701, 10704 and 11701. The collection by the Board of these complaints, and the agency's action in conducting proceedings and ruling on the complaints, enables the Board to meet its statutory duty to regulate the rail industry.

Retention Period: Information in these collections is maintained by the Board for 10 years, after which it is transferred to the National Archives as permanent records.

Collection Number 2

Title: Petitions for declaratory orders.

OMB Control Number: 2140-00XX.

STB Form Number: None.

Type of Review: Existing collections in use without an OMB control number.

Respondents: Affected shippers, railroads and communities that seek a declaratory order from the Board to terminate a controversy or remove uncertainty.

Number of Respondents: 7.

Frequency: On occasion. In FY 2012, there were 7 petitions of this type filed with the Board by respondents.

Total Burden Hours (annually including all respondents): 1,281 hours (estimated hours per petition (183) × number of petitions (7)).

Total “Non-hour Burden” Cost (such as printing, mailing, and messenger costs): $8,652 (estimated “non-hour burden” cost per petition ($1,236) × number of petitions (7)).

Needs and Uses: Under 5 U.S.C. 554(e) and 49 U.S.C. 721, the Board may issue a declaratory order to terminate a controversy or remove uncertainty. Because petitions for a declaratory order cover a broad range of requests, the Board does not prescribe specific instructions for the filing of a petition for declaratory order. The collection by the Board of these petitions for declaratory order enables the Board to meet its statutory duty to regulate the rail industry.

Collection Number 3

Title: Petitions for relief not otherwise provided.

OMB Control Number: 2140-00XX.

STB Form Number: None.

Type of Review: Existing collections in use without an OMB control number.

Respondents: Affected shippers, railroads and communities that seek to address transportation-related issues under the Board's jurisdiction that are not otherwise specifically provided for under the Board's other regulatory provisions.

Number of Respondents: 6.

Frequency: On occasion. In FY 2012, there were 9 petitions of this type filed with the Board by respondents.

Total Burden Hours (annually including all respondents): 220.5 hours (estimated hours per petition (24.5) × number of petitions (9)).

Total “Non-hour Burden” Cost (such as printing, mailing, and messenger costs): $630 (estimated “non-hour burden” cost per petition ($70) × number of petitions (9)).

Needs and Uses: Under 49 U.S.C. 721 and 49 CFR part 1117 (the Board's catch all petition provision), shippers, railroads, and the public in general may seek relief (such as petitions seeking waivers of the Board's regulations) not otherwise specifically provided for under the Board's other regulatory provisions. Under § 1117.1, such petitions should contain three items: (a) A short, plain statement of jurisdiction, (b) a short, plain statement of petitioner's claim, and (c) request for relief. The collection by the Board of these petitions enables the Board to more fully meet its statutory duty to regulate the rail industry.

Retention Period: Information in these collections is maintained by the Board for 10 years, after which it is transferred to the National Archives as permanent records.

SUPPLEMENTARY INFORMATION: Under the PRA, a Federal agency conducting or sponsoring a collection of information must display a currently valid OMB control number. A collection of information, which is defined in 44 U.S.C. 3502(3) and 5 CFR 1320.3(c), includes agency requirements that persons submit reports, keep records, or provide information to the agency, third parties, or the public. Under § 3506(c)(2)(A) of the PRA, Federal agencies are required to provide, prior to an agency's submitting a collection to OMB for approval, a 60-day notice and comment period through publication in the Federal Register concerning each proposed collection of information, including each proposed extension of an existing collection of information.

Dated: April 16, 2013.
Jeffrey Herzig,
Clearance Clerk.

[FR Doc. 2013-09336 Filed 4-19-13; 8:45 am]

BILLING CODE 4915-01-P